DEPARTMENT OF HOMELAND SECURITY

Federal Emergency Management Agency

[Docket ID FEMA-2022-0002; Internal Agency Docket No. FEMA-B-2237]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Pinal | City of Maricopa (21-09-0921P) | The Honorable Christian Price, Mayor, City of Maricopa, 39700 West Civic Center Plaza, Maricopa, AZ 85138. | City Hall, 39700 West Civic Center Plaza, Maricopa, AZ 85138. | https://msc.fema.gov/portal/advanceSearch. | Aug. 12, 2022 | 040052
Pinal | Unincorporated Areas of Pinal County (21-09-0921P). | The Honorable Jeffrey McClure, Chairman, Board of Supervisors, Pinal County, P.O. Box 827, Florence, AZ 85132. | Pinal County Engineering Division, 31 North Pinal Street, Building F, Florence, AZ 85132. | https://msc.fema.gov/portal/advanceSearch. | Aug. 12, 2022 | 040077
Yavapai | Town of Prescott Valley (21-09-1013P). | The Honorable Kell Palguta, Mayor, Town of Prescott Valley, Civic Center, 7501 East Skoog Boulevard, 4th Floor, Prescott Valley, AZ 86314. | Town Hall, Engineering Division, 7501 East Civic Circle, Prescott Valley, AZ 86314. | https://msc.fema.gov/portal/advanceSearch. | Jul. 20, 2022 | 040121
California:
Fresno | City of Clovis (21-09-1313P). | The Honorable Jose Flores Mayor, City of Clovis, 1033 5th Street, Clovis, CA 93612. | City Clerk's Office Civic Center, 1033 5th Street, Clovis, CA 93612. | https://msc.fema.gov/portal/advanceSearch. | Jul. 25, 2022 | 060044
San Diego | Unincorporated Areas of San Diego County (20-09-1857P) | The Honorable Nathan Fletcher, Chairman, Board of Supervisors, San Diego County, 1600 Pacific Highway, Room 335, San Diego, CA 92101. | San Diego County Flood Control District, Department of Public Works, 5510 Overland Avenue, Suite 410, San Diego, CA 92123. | https://msc.fema.gov/portal/advanceSearch. | Aug. 19, 2022 | 060284
Yolo | City of Davis, (20-09-2115P) | The Honorable Gloria Partida, Mayor, City of Davis, 23 Russell Boulevard, Suite 1, Davis, CA 95616. | City Hall, 23 Russell Boulevard, Davis, CA 95616. | https://msc.fema.gov/portal/advanceSearch. | Aug. 15, 2022 | 060424
Florida:
Orange | City of Orlando, (21-04-2426P) | The Honorable Buddy Dyer, Mayor, City of Orlando, P.O. Box 4990, Orlando, FL 32802. | City Hall, 400 South Orange Avenue, 1st Floor, Orlando, FL 32801. | https://msc.fema.gov/portal/advanceSearch. | Aug. 26, 2022 | 120186
Orange | Unincorporated Areas of Orange County (21-04-2426P) | The Honorable Jerry L. Demings, Mayor, Orange County, 201 South Rosalind Avenue, 5th Floor, Orlando, FL 32801. | Orange County, Stormwater Management Division, 4200 South Young Parkway, Orlando, FL 32839. | https://msc.fema.gov/portal/advanceSearch. | Aug. 26, 2022 | 120179
Idaho:
Ada | Unincorporated Areas of Ada County (21-10-1055P). | Mr. Rod Beck, Chairman, Ada County Board of Commissioners, 200 West Front Street, 3rd Floor, Boise, ID 83702. | Ada County Courthouse, 200 West Front Street, Boise, ID 83702. | https://msc.fema.gov/portal/advanceSearch. | Aug. 5, 2022 | 160001
Bonneville | Unincorporated Areas of Bonneville County (22-10-0131P) | Mr. Roger Christensen, Chairman, Bonneville County, Board of Commissioners, 605 North Capital Avenue, Idaho Falls, ID 83402. | Bonneville County Courthouse, 605 North Capital Avenue, Idaho Falls, ID 83402. | https://msc.fema.gov/portal/advanceSearch. | Jul. 28, 2022 | 160027
Fremont | Unincorporated Areas of Fremont County (21-10-1438P) | Mr. Jordan Stoddard, Member, Board of County Commissioners, 151 West 1st North, Room 10, St. Anthony, ID 83445. | Fremont County Court House, 151 West 1st North, St. Anthony, ID 83445. | https://msc.fema.gov/portal/advanceSearch. | Aug. 1, 2022 | 160061
Illinois:
Randolph | Unincorporated Areas of Randolph County (22-05-0587P) | The Honorable Marc Kiehna, Chairman, Board of Commissioners, Randolph County Courthouse, 1 Taylor Street, Chester, IL 62233. | Randolph County Courthouse, 1 Taylor Street, Chester, IL 62233. | https://msc.fema.gov/portal/advanceSearch. | Aug. 19, 2022 | 170575
Will | City of Naperville (21-05-0302P). | The Honorable Steve Chirico, Mayor, City of Naperville, Municipal Center, 400 South Eagle Street, Naperville, IL 60540. | Municipal Center, 400 South Eagle Street, Naperville, IL 60540. | https://msc.fema.gov/portal/advanceSearch. | Jul. 28, 2022 | 170213
Will | Unincorporated Areas of Will County (21-05-0302P). | The Honorable Jennifer Bertino-Tarrant, Will County Executive, Will County Office Building, 302 North Chicago Street, Joliet, IL 60432. | Will County Land Use Department, 58 East Clinton Street, Suite 100, Joliet, IL 60432. | https://msc.fema.gov/portal/advanceSearch. | Jul. 28, 2022 | 170695
Will | Village of Bolingbrook (21-05-4669P) | The Honorable Mary Alexander-Basta, Mayor, Village of Bolingbrook, 375 West Briarcliff Road, Bolingbrook, IL 60440. | Village Hall, 375 West Briarcliff Road, Bolingbrook, IL 60440. | https://msc.fema.gov/portal/advanceSearch. | Aug. 3, 2022 | 170812
Indiana:
Hendricks | Town of Danville (21-05-2756P) | Mr. David Winters, President, Danville Town Council, 49 North Wayne Street, Danville, IN 46122. | Town of Danville Planning Department, 147 West Main Street, Danville, IN 46122. | https://msc.fema.gov/portal/advanceSearch. | Aug. 12, 2022 | 180088
Hendricks | Unincorporated Areas of Hendricks County (21-05-2756P) | Ms. Phyllis Palmer, President, Hendricks County Board of Commissioners, 49 North Wayne Street, Danville, IN 46122. | Hendricks County Government Center, 355 South Washington Street, Danville, IN 46122. | https://msc.fema.gov/portal/advanceSearch. | Aug. 12, 2022 | 180415
Lake | Town of Cedar Lake (21-05-4556P). | The Honorable Randy Niemeyer, Town Council President, Town of Cedar Lake, 7408 Constitution Avenue, Cedar Lake, IN 46303. | Town Hall, 7408 Constitution Avenue, Cedar Lake, IN 46303. | https://msc.fema.gov/portal/advanceSearch. | Jul. 27, 2022 | 180127
Kansas: Johnson | City of Olathe (21-07-0765P) | The Honorable John Bacon, Mayor, City of Olathe, 100 East Santa Fe Street, Olathe, KS 66061. | City Hall, 100 West Santa Fe Drive, Olathe, KS 66061. | https://msc.fema.gov/portal/advanceSearch. | Aug. 4, 2022 | 200173
Michigan: St. Clair | City of St. Clair (22-05-0188P) | The Honorable William Cedar, Jr., Mayor, City of St. Clair, 547 North Carney Drive, St. Clair, MI 48079. | City Hall, 547 North Carney Drive, St. Clair, MI 48079. | https://msc.fema.gov/portal/advanceSearch. | Jun. 1, 2022 | 260279
New Jersey: Mercer | Township of Ewing (21-02-0942P). | The Honorable Bert Steinmann, Mayor, Township of Ewing, 2 Jake Garzio Drive, Ewing, NJ 08628. | Construction Office, 2 Jake Garzio Drive, Ewing, NJ 08628. | https://msc.fema.gov/portal/advanceSearch. | Aug. 18, 2022 | 345294
New York: Westchester | Town of North Castle (21-02-1100P). | Mr. Michael J. Schiliro, Supervisor, Town of North Castle, 15 Bedford Road, Armonk, NY 10504. | North Castle Town Engineer, 200 South Greeley Avenue, Chappaqua, NY 10514. | https://msc.fema.gov/portal/advanceSearch. | Oct. 13, 2022 | 360923
Ohio:
Erie | Unincorporated Areas of Erie County (22-05-0959P). | Mr. Patrick Shenigo, Commissioner, Erie County Board of Commissioners, 2900 Columbus Avenue, Sandusky, OH 44870. | Erie County Regional Planning Commission, 2900 Columbus Avenue, Sandusky, OH 44870. | https://msc.fema.gov/portal/advanceSearch. | Sep. 2, 2022 | 390153
Warren | City of Mason (21-05-3113P) | The Honorable Kathy Grossmann, Mayor, City of Mason, 6000 Mason Montgomery Road, Mason, OH 45040. | Municipal Building, 6000 Mason Montgomery Road, Mason, OH 45040. | https://msc.fema.gov/portal/advanceSearch. | Aug. 22, 2022 | 390559
South Carolina:
Jasper | City of Hardeeville (21-04-0577P) | The Honorable Harry Williams, Mayor, City of Hardeeville, P.O. Box 609, Hardeeville, SC 29927. | City Hall, 205 Main Street, Hardeeville, SC 29927. | https://msc.fema.gov/portal/advanceSearch. | Jul. 28, 2022 | 450113
Jasper | Unincorporated Areas of Jasper County (21-04-0577P) | Mrs. Barbara Clark, Chairperson, Jasper County, P.O. Box 1659, Ridgeland, SC 29936. | Jasper County Planning and Building Services, 358 3rd Avenue, Room 202, Ridgeland, SC 29936. | https://msc.fema.gov/portal/advanceSearch. | Jul. 28, 2022 | 450112
Wisconsin: Kenosha | Village of Pleasant Prairie (21-05-4480P) | Mr. John P. Steinbrink, Village President, Village of Pleasant Prairie, 9915 39th Avenue, Pleasant Prairie, WI 53158. | Village Hall, 9915 39th Avenue, Pleasant Prairie, WI 53158. | https://msc.fema.gov/portal/advanceSearch. | Aug. 4, 2022 | 550613

[FR Doc. 2022-11359 Filed 5-25-22; 8:45 am]

BILLING CODE 9110-12-P